DEPARTMENT OF JUSTICE

Drug Enforcement Administration

Importer of Controlled Substances; Notice of Registration

By Notice dated September 6, 2000, and published in the Federal Register on September 25, 2000 (65 FR 57623), Roche Diagnostics Corporation, 9115 Hague Road, Indianapolis, Indiana 46250, made application by letter to the Drug Enforcement Administration (DEA) to be registered as an importer of alphamethadol (9605), a basic class of controlled substance listed in Schedule I.

The firm plans to import the alphamethadol to manufacture diagnostic products for distribution to its customers.

No comments or objections have been received. DEA has considered the factors in title 21, United States Code, Section 823(a) and determined that the registration of Roche Diagnostics Corporation to import alphamethadol is consistent with the public interest and with United States obligations under international treaties, conventions, or protocols in effect on May 1, 1971, at this time. DEA has investigated Roche Diagnostics Corporation on a regular basis to ensure that the company's continued registration is consistent with the public interest. These investigations have included inspection and testing of the company's physical security systems, audits of the company's records, verification of the company's compliance with state and local laws, and a review of the company's background and history. Therefore, pursuant to section 1008(a) of the Controlled Substances Import and Export Act and in accordance with title 21, Code of Federal Regulations, section 1301.34, the above firm is granted registration as an exporter of the basic class of controlled substance listed above.

Dated: November 8, 2000.
John H. King,
Deputy Assistant Administrator, Office of Diversion Control, Drug Enforcement Administration.

[FR Doc. 00-30296 Filed 11-27-00; 8:45 am]

BILLING CODE 4410-09-M